ENVIRONMENTAL PROTECTION AGENCY

40 CFR Part 55

[EPA-R02-OAR-2017-0723; FRL-9974-27-Region 2]

Outer Continental Shelf Air Regulations Update To Include New Jersey State Requirements

AGENCY: Environmental Protection Agency.

ACTION: Proposed rule.

SUMMARY: The Environmental Protection Agency (EPA) is proposing to update a portion of the Outer Continental Shelf (OCS) Air Regulations applying to OCS sources located within 25 miles of states' seaward boundaries which must be promulgated into the regulations and updated periodically to remain consistent with the requirements on the corresponding onshore area (COA), which is typically the state geographically closest to the OCS source. The portion of the OCS air regulations that is being updated pertains to the requirements for OCS sources for which the State of New Jersey is the COA. The intended effect of approving the OCS requirements for the State of New Jersey is to regulate emissions from OCS sources in accordance with the requirements onshore. The requirements discussed below are proposed to be incorporated by reference into the Code of Federal Regulations and are listed in the appendix to the OCS air regulations.

DATES: Written comments must be received on or before March 15, 2018.

ADDRESSES: Submit your comments, identified by Docket ID Number EPA-R02-OAR-2017-0723 at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Viorica Petriman, Air Programs Branch, Permitting Section, U.S. Environmental Protection Agency, Region 2, 290 Broadway, New York, New York 10007, (212) 637-4021, petriman.viorica@epa.gov.

SUPPLEMENTARY INFORMATION: Throughout this document, the terms “we,” “us,” and “our” refer to the EPA.

Table of Contents

I. Background Information

Why is the EPA taking this action?

II. The EPA's Evaluation

What criteria were used to evaluate rules submitted to update 40 CFR part 55?

III. What action is the EPA proposing to take?

IV. Incorporation by Reference

V. Statutory and Executive Order Reviews

I. Background Information

Why is the EPA taking this action?

On September 4, 1992, EPA promulgated 40 CFR part 55,¹ which established requirements to control air pollution from the Outer Continental Shelf (OCS) sources in order to attain and maintain Federal and State ambient air quality standards (AAQS) and to comply with the provisions of part C of title I of the CAA. Part 55 applies to all OCS sources offshore of the states except those located in the Gulf of Mexico west of 87.5 degrees longitude.

¹ The reader may refer to the Proposed Rulemaking, December 5, 1991 (56 FR 63774), and the preamble to the final rule promulgated September 4, 1992 (57 FR 40792) for further background and information on the OCS regulations.

Section 328(a) of the CAA requires that for such sources located within 25 miles of a State's seaward boundary, the requirements shall be the same as would be applicable if the sources were located in the corresponding onshore area (COA). Because the OCS requirements are based on onshore requirements, and onshore requirements may change, section 328(a)(1) requires that the EPA update the OCS requirements as necessary to maintain consistency with onshore requirements.

To comply with this statutory mandate, the EPA must incorporate by reference applicable rules in effect for onshore sources into part 55. This limits EPA's flexibility in deciding which requirements will be incorporated into 40 CFR part 55 and prevents EPA from making substantive changes to the requirements it incorporates. As a result, EPA may be incorporating rules into 40 CFR part 55 that do not conform to all of EPA's state implementation plan (SIP) guidance or certain requirements of the CAA. Inclusion in the OCS rule does not imply that a rule meets the requirements of the CAA for SIP approval, nor does it imply that the rule will be approved by EPA for inclusion in the SIP.

II. The EPA's Evaluation

What criteria were used to evaluate rules to update 40 CFR part 55?

In updating 40 CFR part 55, the EPA reviewed the New Jersey Department of Environmental Protection (“NJDEP”)'s air rules currently in effect, to ensure that they are rationally related to the attainment or maintenance of Federal and State AAQS or part C of title I of the Act and that they are not designed expressly to prevent exploration and development of the OCS and that they are applicable to OCS sources. 40 CFR 55.1. The EPA has also evaluated the rules to ensure they are not arbitrary and capricious. 40 CFR 55.12(e). The EPA has excluded New Jersey's administrative or procedural rules,² and requirements that regulate toxics which are not related to the attainment and maintenance of Federal and State AAQS.

² Each COA, which has been delegated the authority to implement and enforce part 55, will use its administrative and procedural rules as onshore. However, in those instances where EPA has not delegated authority to implement and enforce part 55, as in New Jersey, EPA will use its own administrative and procedural requirements to implement the substantive requirements. See 40 CFR 55.14(c)(4).

III. What action is EPA proposing to take?

To comply with the statutory mandate of Section 328(a)(1) of the CAA, the EPA must incorporate by reference all relevant state rules into part 55 so they can be applied to OCS sources located offshore. 40 CFR 55.12 specifies certain times at which part 55's incorporation by reference of a state's rules must be updated. One such time a consistency update must occur is when any OCS source applicant submits a Notice of Intent (NOI) under 40 CFR 55.4 for a new or a modified OCS source. 40 CFR 55.4(a) requires that any OCS source applicant must submit to EPA a NOI before performing any physical change or change in method of operation that results in an increase in emissions. EPA must conduct any necessary consistency update when it receives an NOI, and prior to receiving any application for a preconstruction permit from the OCS source applicant. 40 CFR 55.6(b)(2) and 55.12(f).

On December 21, 2017, the EPA received a NOI for a new OCS source off the coast of New Jersey. In today's action, the EPA is proposing to update the “New Jersey” section of Appendix A to 40 CFR part 55 to incorporate by reference the following relevant New Jersey air pollution control rules that are currently in effect:

Chapter 27 Subchapter 2—Control and Prohibition of Open Burning (Effective 6/20/1994),

N.J.A.C. 7:27-2.1 through 2.4,7:27-2.6 through 2.8, and 7:27-2.12 through 2.13;

Chapter 27 Subchapter 3—Control and Prohibition of Smoke from Combustion of Fuel (Effective 2/4/2002);

Chapter 27 Subchapter 4—Control and Prohibition of Particles from Combustion of Fuel (Effective 4/20/2009);

Chapter 27 Subchapter 5—Prohibition of Air Pollution (Effective 10/12/1977);

Chapter 27 Subchapter 6—Control and Prohibition of Particles from Manufacturing Processes (Effective 6/12/1998);

Chapter 27 Subchapter 7—Sulfur (Effective 11/6/2017), N.J.A.C. 7:27-7.1 and 7.2;

Chapter 27 Subchapter 8—Permits and Certificates for Minor Facilities (and Major Facilities without an Operating Permit) (Effective 1/16/2018), N.J.A.C. 7:27-8.1 through 8.9, 7:27-8.11 through 8.21, 7:27-8.23 through 8.25, 7:27-8.27, and Appendix 1;

Chapter 27 Subchapter 9—Sulfur in Fuels (Effective 9/20/2010);

Chapter 27 Subchapter 10—Sulfur in Solid Fuels (Effective 9/6/2011);

Chapter 27 Subchapter 11—Incinerators (Effective 5/4/1998);

Chapter 27 Subchapter 12—Prevention and Control of Air Pollution Emergencies (Effective 5/20/1974);

Chapter 27 Subchapter 16—Control and Prohibition of Air Pollution by Volatile Organic Compounds (Effective 1/16/2018), N.J.A.C. 7:27-16.1 through 16.10, 7:27-16.12 through 16.13, 7:27-16.16 through 16.23, 7:27-16.27, and Appendix I and II;

Chapter 27 Subchapter 18—Control and Prohibition of Air Pollution from New or Altered Sources Affecting Ambient Air Quality (Emission Offset Rules) (Effective 11/6/2017);

Chapter 27 Subchapter 19—Control and Prohibition of Air Pollution from Oxides of Nitrogen (Effective 1/16/2018), N.J.A.C. 7:27-19.1 through 19.8, 7:27-19.11, 7:27-19.13 through 19.21, 7:27-19.23, and 7:27-19.25 through 19.26;

Chapter 27 Subchapter 20—Used Oil Combustion (Effective 9/6/2011);

Chapter 27 Subchapter 21—Emission Statements (Effective 1/16/2018);

Chapter 27 Subchapter 22—Operating Permits (Effective 1/16/2018);

Chapter 27B Subchapter 1—Sampling and Analytical Procedures for Determining Emissions of Particles from Manufacturing Processes and from Combustion of Fuels (Effective 6/21/1976);

Chapter 27B Subchapter 2—Procedures for Visual Determination of the Opacity (Percent) and Shade or Appearance (Ringelmann Number) of Emissions from Sources (Effective 6/21/1976); and

Chapter 27B Subchapter 3—Air Test Method 3: Sampling and Analytical Procedures for the Determination of Volatile Organic Compounds from Source Operations (Effective 12/1/2008).

IV. Incorporation by Reference

In this rule, the EPA is proposing to include in a final EPA rule regulatory text that includes incorporation by reference. In accordance with requirements of 1 CFR 51.5, the EPA is proposing to incorporate by reference the NJDEP air rules that are applicable to OCS sources and which are currently in effect. These regulations are described in Section III (“What Action is EPA Proposing to Take?”) of this preamble. The EPA has made, and will continue to make, these materials generally available through www.regulations.gov and at the EPA Region 2 Office. Please contact the person identified in the FOR FURTHER INFORMATION CONTACT section of this preamble for more information.

V. Statutory and Executive Order Reviews

Under the Clean Air Act, the Administrator is required to establish requirements to control air pollution from OCS sources located within 25 miles of states' seaward boundaries that are the same as onshore air control requirements. To comply with this statutory mandate, the EPA must incorporate applicable onshore rules into part 55 as they exist onshore. 42 U.S.C. 7627(a)(1); 40 CFR 55.12. Thus, in promulgating OCS consistency updates, the EPA's role is to maintain consistency between OCS regulations and the regulations of onshore areas, provided that they meet the criteria of the Clean Air Act. Accordingly, this action simply updates the existing OCS requirements to make them consistent with requirements onshore, without the exercise of any policy discretion by the EPA. For that reason, this proposed action:

• Is not a “significant regulatory action” subject to review by the Office of Management and Budget under Executive Order 12866 (58 FR 51735, October 4, 1993); and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandate Reform Act of 1995 (Pub. L. 04-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, this proposed rule does not have tribal implications as specified by Executive Order 13175 (65 FR 67249, November 9, 2000), because it does not have a substantial direct effect on one or more Indian tribes, on the relationship between the Federal Government and Indian tribes, or on the distribution of power and responsibilities between the Federal Government and Indian tribes, nor does it impose substantial direct costs on tribal governments, nor preempt tribal law.

List of Subjects in 40 CFR Part 55

Environmental protection, Administrative practice and procedures, Air pollution control, Hydrocarbons, Incorporation by reference, Intergovernmental relations, Nitrogen dioxide, Nitrogen oxides, Outer Continental Shelf, Ozone, Particulate matter, Permits, Reporting and recordkeeping requirements, Sulfur oxides.

Dated: January 31, 2018.
Peter D. Lopez,
Regional Administrator, Region 2.

For the reasons set out in the preamble, title 40 of the Code of Federal Regulations, part 55, is proposed to be amended as follows:

PART 55—OUTER CONTINENTAL SHELF AIR REGULATIONS

1. The authority citation for 40 CFR part 55 continues to read as follows:

Authority: Section 328 of the Clean Air Act (42 U.S.C. 7401, et seq.) as amended by Public Law 101-549.

2. Section 55.14 is amended by revising the sixth sentence in paragraph (e) introductory text and paragraph (e)(15)(i)(A) to read as follows:

§ 55.14 Requirements that apply to OCS sources located within 25 miles of States' seaward boundaries, by State.

* * * * *

(e) State and local requirements. * * * Copies of rules pertaining to particular states or local areas may be inspected or obtained from the EPA Docket Center—Public Reading Room, EPA West Building, Room 3334 1301 Constitution Avenue NW, Washington, DC 20004 or the appropriate EPA regional offices: U.S. EPA, Region 1 (Massachusetts) One Congress Street, Boston, MA 02114-2023; U.S. EPA, Region 2 (New Jersey and New York), 290 Broadway, New York, NY 10007-1866; U.S. EPA, Region 3 (Delaware), 1650 Arch Street, Philadelphia, PA 19103, (215) 814-5000; U.S. EPA, Region 4 (Florida and North Carolina), 61 Forsyth Street, Atlanta, GA 30303; U.S. EPA, Region 9 (California), 75 Hawthorne Street, San Francisco, CA 94105; and U.S. EPA, Region 10 (Alaska), 1200 Sixth Avenue, Seattle, WA 98101. * * *

* * * * *

(15) * * *

(i) * * *

(A) State of New Jersey Requirements Applicable to OCS Sources, January 16, 2018.

* * * * *

3. Appendix A to part 55 is amended by revising paragraph (a)(1) under the heading “New Jersey” to read as follows:

Appendix A to Part 55—Listing of State and Local Requirements Incorporated By Reference Into 40 CFR Part 55, By State

* * * * *

NEW JERSEY

(a) * * *

(1) The following State of New Jersey requirements are applicable to OCS Sources, as of January 16, 2018. New Jersey State Department of Environmental Protection—New Jersey Administrative Code. The following sections of Title 7:

Chapter 27 Subchapter 2—Control and Prohibition of Open Burning (Effective 6/20/1994)

N.J.A.C. 7:27-2.1. Definitions

N.J.A.C. 7:27-2.2. Open burning for salvage operations

N.J.A.C. 7:27-2.3. Open burning of refuse

N.J.A.C. 7:27-2.4. General provisions

N.J.A.C. 7:27-2.6. Prescribed burning

N.J.A.C. 7:27-2.7. Emergencies

N.J.A.C. 7:27-2.8. Dangerous material

N.J.A.C. 7:27-2.12. Special permit

N.J.A.C. 7:27-2.13. Fees

Chapter 27 Subchapter 3—Control and Prohibition of Smoke From Combustion of Fuel (Effective 2/4/2002)

N.J.A.C. 7:27-3.1. Definitions

N.J.A.C. 7:27-3.2. Smoke emissions from stationary indirect heat exchangers

N.J.A.C. 7:27-3.3. Smoke emissions from marine installations

N.J.A.C. 7:27-3.4. Smoke emissions from the combustion of fuel in mobile sources

N.J.A.C. 7:27-3.5. Smoke emissions from stationary internal combustion engines and stationary turbine engines

N.J.A.C. 7:27-3.6. Stack test

N.J.A.C. 7:27-3.7. Exceptions

Chapter 27 Subchapter 4—Control and Prohibition of Particles From Combustion of Fuel (Effective 4/20/2009)

N.J.A.C. 7:27-4.1. Definitions

N.J.A.C. 7:27-4.2. Standards for the emission of particles

N.J.A.C. 7:27-4.3. Performance test principle

N.J.A.C. 7:27-4.4. Emissions tests

N.J.A.C. 7:27-4.6. Exceptions

Chapter 27 Subchapter 5—Prohibition of Air Pollution (Effective 10/12/1977)

N.J.A.C. 7:27-5.1. Definitions

N.J.A.C. 7:27-5.2. General provisions

Chapter 27 Subchapter 6—Control and Prohibition of Particles From Manufacturing Processes (Effective 6/12/1998)

N.J.A.C. 7:27-6.1. Definitions

N.J.A.C. 7:27-6.2. Standards for the emission of particles

N.J.A.C. 7:27-6.3. Performance test principles

N.J.A.C. 7:27-6.4. Emissions tests

N.J.A.C. 7:27-6.5. Variances

N.J.A.C. 7:27-6.7. Exceptions

Chapter 27 Subchapter 7—Sulfur (Effective 11/6/2017)

N.J.A.C. 7:27-7.1. Definitions

N.J.A.C. 7:27-7.2. Control and prohibition of air pollution from sulfur compounds

Chapter 27 Subchapter 8—Permits and Certificates for Minor Facilities (and Major Facilities Without an Operating Permit) (Effective 1/16/2018)

N.J.A.C. 7:27-8.1. Definitions

N.J.A.C. 7:27-8.2. Applicability

N.J.A.C. 7:27-8.3. General provisions

N.J.A.C. 7:27-8.4. How to apply, register, submit a notice, or renew

N.J.A.C. 7:27-8.5. Air quality impact analysis

N.J.A.C. 7:27-8.6. Service fees

N.J.A.C. 7:27-8.7. Operating certificates

N.J.A.C. 7:27-8.8. General permits

N.J.A.C. 7:27-8.9. Environmental improvement pilot tests

N.J.A.C. 7:27-8.11. Standards for issuing a permit

N.J.A.C. 7:27-8.12. State of the art

N.J.A.C. 7:27-8.13. Conditions of approval

N.J.A.C. 7:27-8.14. Denials

N.J.A.C. 7:27-8.15. Reporting requirements

N.J.A.C. 7:27-8.16. Revocation

N.J.A.C. 7:27-8.17. Changes to existing permits and certificates

N.J.A.C. 7:27-8.18. Permit revisions

N.J.A.C. 7:27-8.19. Compliance plan changes

N.J.A.C. 7:27-8.20. Seven-day notice changes

N.J.A.C. 7:27-8.21. Amendments

N.J.A.C. 7:27-8.23. Reconstruction

N.J.A.C. 7:27-8.24. Special provisions for construction but not operation

N.J.A.C. 7:27-8.25. Special provisions for pollution control equipment or pollution prevention process modifications

N.J.A.C. 7:27-8.27. Special facility-wide permit provisions

Appendix 1

Chapter 27 Subchapter 9—Sulfur in Fuels (Effective 9/20/2010)

N.J.A.C. 7:27-9.1. Definitions

N.J.A.C. 7:27-9.2. Sulfur content standards

N.J.A.C. 7:27-9.3. Exemptions

N.J.A.C. 7:27-9.4. Waiver of air quality modeling

Chapter 27 Subchapter 10—Sulfur in Solid Fuels (Effective 9/6/2011)

N.J.A.C. 7:27-10.1. Definitions

N.J.A.C. 7:27-10.2. Sulfur contents standards

N.J.A.C. 7:27-10.3. Expansion, reconstruction or construction of solid fuel burning units

N.J.A.C. 7:27-10.4. Exemptions

N.J.A.C. 7:27-10.5. SO2 emission rate determinations

Chapter 27 Subchapter 11—Incinerators (Effective 5/4/1998)

N.J.A.C. 7:27-11.1. Definitions

N.J.A.C. 7:27-11.2. Construction standards

N.J.A.C. 7:27-11.3. Emission standards

N.J.A.C. 7:27-11.4. Permit to construct; certificate to operate

N.J.A.C. 7:27-11.5. Operation

N.J.A.C. 7:27-11.6. Exceptions

Chapter 27 Subchapter 12—Prevention and Control of Air Pollution Emergencies (Effective 5/20/1974)

N.J.A.C. 7:27-12.1. Definitions

N.J.A.C. 7:27-12.2. Emergency criteria

N.J.A.C. 7:27-12.3. Criteria for emergency termination

N.J.A.C. 7:27-12.4. Standby plans

N.J.A.C. 7:27-12.5. Standby orders

Table I Emission Reduction Objectives

Table II Emission Reduction Objectives

Table III Emission Reduction Objectives

Chapter 27 Subchapter 16—Control and Prohibition of Air Pollution by Volatile Organic Compounds (Effective 1/16/2018)

N.J.A.C. 7:27-16.1. Definitions

N.J.A.C. 7:27-16.1A. Purpose, scope, applicability, and severability

N.J.A.C. 7:27-16.2. VOC stationary storage tanks

N.J.A.C. 7:27-16.3. Gasoline transfer operations

N.J.A.C. 7:27-16.4. VOC transfer operations, other than gasoline

N.J.A.C. 7:27-16.5. Marine tank vessel loading and ballasting operations

N.J.A.C. 7:27-16.6. Open top tanks and solvent cleaning operations

N.J.A.C. 7:27-16.7. Surface coating and graphic arts operations

N.J.A.C. 7:27-16.8. Boilers

N.J.A.C. 7:27-16.9. Stationary combustion turbines

N.J.A.C. 7:27-16.10. Stationary reciprocating engines

N.J.A.C. 7:27-16.12. Surface coating operations at mobile equipment repair and refinishing facilities

N.J.A.C. 7:27-16.13. Flares

N.J.A.C. 7:27-16.16. Other source operations

N.J.A.C. 7:27-16.17. Alternative and facility-specific VOC control requirements

N.J.A.C. 7:27-16.18. Leak detection and repair

N.J.A.C. 7:27-16.19. Application of cutback and emulsified asphalts

N.J.A.C. 7:27-16.21. Natural gas pipelines

N.J.A.C. 7:27-16.22. Emission information, record keeping and testing

N.J.A.C. 7:27-16.23. Procedures for demonstrating compliance

N.J.A.C. 7:27-16.27. Exceptions

Appendix I

Appendix II

Chapter 27 Subchapter 18—Control and Prohibition of Air Pollution From New or Altered Sources Affecting Ambient Air Quality (Emission Offset Rules) (Effective 11/6/2017)

N.J.A.C. 7:27-18.1. Definitions

N.J.A.C. 7:27-18.2. Facilities subject to this subchapter

N.J.A.C. 7:27-18.3. Standards for issuance of permits

N.J.A.C. 7:27-18.4. Air quality impact analysis

N.J.A.C. 7:27-18.5. Standards for use of emission reductions as emission offsets

N.J.A.C. 7:27-18.6. Emission offset postponement

N.J.A.C. 7:27-18.7. Determination of a net emission increase or a significant net emission increase

N.J.A.C. 7:27-18.8. Banking of emission reductions

N.J.A.C. 7:27-18.9. Secondary emissions

N.J.A.C. 7:27-18.10. Exemptions

N.J.A.C. 7:27-18.12. Civil or criminal penalties for failure to comply

Chapter 27 Subchapter 19—Control and Prohibition of Air Pollution from Oxides of Nitrogen (Effective 1/16/2018)

N.J.A.C. 7:27-19.1. Definitions

N.J.A.C. 7:27-19.2. Purpose, scope and applicability

N.J.A.C. 7:27-19.3. General provisions

N.J.A.C. 7:27-19.4. Boilers serving electric generating units

N.J.A.C. 7:27-19.5. Stationary combustion turbines

N.J.A.C. 7:27-19.6. Emissions averaging

N.J.A.C. 7:27-19.7. Industrial/commercial/institutional boilers and other indirect heat exchangers

N.J.A.C. 7:27-19.8. Stationary reciprocating engines

N.J.A.C. 7:27-19.11. Emergency generators—recordkeeping

N.J.A.C. 7:27-19.13. Alternative and facility-specific NOX emission limits

N.J.A.C. 7:27-19.14. Procedures for obtaining approvals under this subchapter

N.J.A.C. 7:27-19.15. Procedures and deadlines for demonstrating compliance

N.J.A.C. 7:27-19.16. Adjusting combustion processes

N.J.A.C. 7:27-19.17. Source emissions testing

N.J.A.C. 7:27-19.18. Continuous emissions monitoring

N.J.A.C. 7:27-19.19. Recordkeeping and recording

N.J.A.C. 7:27-19.20. Fuel switching

N.J.A.C. 7:27-19.21. Phased compliance—repowering

N.J.A.C. 7:27-19.23. Phased compliance—use of innovative control technology

N.J.A.C. 7:27-19.25. Exemption for emergency use of fuel oil

N.J.A.C. 7:27-19.26. Penalties

Chapter 27 Subchapter 20—Used Oil Combustion (Effective 9/6/2011)

N.J.A.C. 7:27-20.1. Definitions

N.J.A.C. 7:27-20.2. General provisions

N.J.A.C. 7:27-20.3. Burning of on-specification used oil in space heaters covered by a registration

N.J.A.C. 7:27-20.4. Burning of on-specification used oil in space heaters covered by a permit

N.J.A.C. 7:27-20.5. Demonstration that used oil is on-specification

N.J.A.C. 7:27-20.6. Burning of on-specification oil in other combustion units

N.J.A.C. 7:27-20.7. Burning of off-specification used oil

N.J.A.C. 7:27-20.8. Ash standard

N.J.A.C. 7:27-20.9. Exception

Chapter 27 Subchapter 21—Emission Statements (Effective 1/16/2018)

N.J.A.C. 7:27-21.1. Definitions

N.J.A.C. 7:27-21.2. Applicability

N.J.A.C. 7:27-21.3. General provisions

N.J.A.C. 7:27-21.4. Procedures for submitting an emission statement

N.J.A.C. 7:27-21.5. Required contents of an emission statement

N.J.A.C. 7:27-21.6. Methods to be used for quantifying actual emissions

N.J.A.C. 7:27-21.7. Recordkeeping requirements

N.J.A.C. 7:27-21.8. Certification of information

N.J.A.C. 7:27-21.9. Request for extensions

N.J.A.C. 7:27-21.10. Determination of non-applicability

N.J.A.C. 7:27-21.11. Severability

Appendix 1

Chapter 27 Subchapter 22—Operating Permits (Effective 1/16/2018)

N.J.A.C. 7:27-22.1. Definitions

N.J.A.C. 7:27-22.2. Applicability

N.J.A.C. 7:27-22.3. General provisions

N.J.A.C. 7:27-22.4. General application procedures

N.J.A.C. 7:27-22.5. Application procedures for initial operating permits

N.J.A.C. 7:27-22.6. Operating permit application contents

N.J.A.C. 7:27-22.7. Application shield

N.J.A.C. 7:27-22.8. Air quality simulation modeling and risk assessment

N.J.A.C. 7:27-22.9. Compliance plans

N.J.A.C. 7:27-22.10. Completeness reviews

N.J.A.C. 7:27-22.11. Public comment

N.J.A.C. 7:27-22.12. EPA comment

N.J.A.C. 7:27-22.13. Final action on an application

N.J.A.C. 7:27-22.14. General operating permits

N.J.A.C. 7:27-22.15. Temporary facility operating permits

N.J.A.C. 7:27-22.16. Operating permit contents

N.J.A.C. 7:27-22.17. Permit shield

N.J.A.C. 7:27-22.18. Source emissions testing and monitoring

N.J.A.C. 7:27-22.19. Recordkeeping, reporting and compliance certification

N.J.A.C. 7:27-22.20. Administrative amendments

N.J.A.C. 7:27-22.21. Changes to insignificant source operations

N.J.A.C. 7:27-22.22. Seven-day-notice changes

N.J.A.C. 7:27-22.23. Minor modifications

N.J.A.C. 7:27-22.24. Significant modifications

N.J.A.C. 7:27-22.24A. Reconstruction

N.J.A.C. 7:27-22.25. Department initiated operating permit modifications

N.J.A.C. 7:27-22.26. MACT and GACT standards

N.J.A.C. 7:27-22.27. Operating scenarios

N.J.A.C. 7:27-22.28A. Emissions trading

N.J.A.C. 7:27-22.28B. Facility-specific emissions averaging programs

N.J.A.C. 7:27-22.29. Facilities subject to acid deposition control

N.J.A.C. 7:27-22.30. Renewals

N.J.A.C. 7:27-22.31. Fees

N.J.A.C. 7:27-22.32. Hearings and appeals

N.J.A.C. 7:27-22.33. Preconstruction review

N.J.A.C. 7:27-22.34. Early reduction of HAP emissions

N.J.A.C. 7:27-22.35. Advances in the art of air pollution

Appendix

Table A

Chapter 27B Subchapter 1—Sampling and Analytical Procedures for Determining Emissions of Particles from Manufacturing Processes and from Combustion of Fuels (Effective 6/21/1976)

N.J.A.C. 7:27B-1.1. Definitions

N.J.A.C. 7:27B-1.2. Acceptable test methods

N.J.A.C. 7:27B-1.3. Operating conditions during the test

N.J.A.C. 7:27B-1.4. Sampling facilities to be provided by the person responsible for emissions

N.J.A.C. 7:27B-1.5. Sampling train

N.J.A.C. 7:27B-1.6. Performance test principle

N.J.A.C. 7:27B-1.7. General testing requirements

N.J.A.C. 7:27B-1.8. Required test data

N.J.A.C. 7:27B-1.9. Preparation for sampling

N.J.A.C. 7:27B-1.10. Sampling

N.J.A.C. 7:27B-1.11. Sample recovery

N.J.A.C. 7:27B-1.12. Analysis

N.J.A.C. 7:27B-1.13. Calculations

N.J.A.C. 7:27B-1.14. Validation of test

Chapter 27B Subchapter 2—Procedures for Visual Determination of the Opacity (Percent) and Shade or Appearance (Ringelmann Number) of Emissions from Sources (Effective 6/21/1976)

N.J.A.C. 7:27B-2.1. Definitions

N.J.A.C. 7:27B-2.2. Acceptable observation methods

N.J.A.C. 7:27B-2.3. Observation principle

N.J.A.C. 7:27B-2.4. General observation requirements

N.J.A.C. 7:27B-2.5. Required observation data

N.J.A.C. 7:27B-2.6. Certification

References

Appendix

Chapter 27B Subchapter 3—Air Test Method 3: Sampling and Analytical Procedures for the Determination of Volatile Organic Compounds from Source Operations (Effective 12/1/2008)

N.J.A.C. 7:27B-3.1. Definitions

N.J.A.C. 7:27B-3.2. Sampling and analytical protocol: acceptable test methods

N.J.A.C. 7:27B-3.3. Operating conditions during the test

N.J.A.C. 7:27B-3.4. Sampling facilities

N.J.A.C. 7:27B-3.5. Source operations and applicable test methods

N.J.A.C. 7:27B-3.6. Procedures for the determinations of vapor pressures of a single known VOC or mixtures of known and/or unknown VOC

N.J.A.C. 7:27B-3.7. Procedures for the direct measurement of volatile organic compounds using a flame ionization detector (FID), a photoionization detector (PID) or a non-dispersive infrared analyzer (NDIR)

N.J.A.C. 7:27B-3.8. Procedures for the direct measurement of volatile organic compounds using a gas chromatograph (GC) with a flame ionization detector (FID) or other suitable detector

N.J.A.C. 7:27B-3.9. Procedures for the sampling and remote analysis of known volatile organic compounds using a gas chromatograph (GC) with a flame ionization detector (FID) or other suitable detector

N.J.A.C. 7:27B-3.10. Procedures for the determination of volatile organic compounds in surface coating formulations

N.J.A.C. 7:27B-3.11. Procedures for the determination of volatile organic compounds emitted from transfer operations using a flame ionization detector (FID) or non-dispersive infrared analyzer (NDIR)

N.J.A.C. 7:27B-3.12. Procedures for the determination of volatile organic compounds in cutback and emulsified asphalts

N.J.A.C. 7:27B-3.13. Procedures for the determination of leak tightness of gasoline delivery vessels

N.J.A.C. 7:27B-3.14. Procedures for the direct detection of fugitive volatile organic compound leaks

N.J.A.C. 7:27B-3.15. Procedures for the direct detection of fugitive volatile organic compound leaks from gasoline tank trucks and vapor collection systems using a combustible gas detector

N.J.A.C. 7:27B-3.18. Test methods and sources incorporated by reference.

* * * * *

[FR Doc. 2018-02815 Filed 2-12-18; 8:45 am]

BILLING CODE 6560-50-P